DEPARTMENT OF TRANSPORTATION

Federal Aviation Administration

14 CFR Part 39

[Docket No. FAA-2008-0410; Directorate Identifier 2007-NM-362-AD; Amendment 39-15485; AD 2006-12-10 R1]

RIN 2120-AA64

Airworthiness Directives; Boeing Model 747-400 Series Airplanes

AGENCY: Federal Aviation Administration (FAA), Department of Transportation (DOT).

ACTION: Final rule; request for comments.

SUMMARY: The FAA is revising an existing airworthiness directive (AD) that applies to certain Boeing Model 747-400 series airplanes. That AD currently requires inspecting the support bracket of the crew oxygen cylinder installation to determine the manufacturing date marked on the support, and performing corrective action if necessary. This new AD retains all the requirements of the existing AD and expands the applicability of the existing AD to include certain airplanes that are not on the U.S. Register. This AD results from a report indicating that certain oxygen cylinder supports may not have been properly heat-treated. We are issuing this AD to prevent failure of the oxygen cylinder support under the most critical flight load conditions, which could cause the oxygen cylinder to come loose and leak oxygen. Leakage of oxygen could result in oxygen being unavailable for the flightcrew or could result in a fire hazard in the vicinity of the leakage.

DATES: Effective May 7, 2008.

The Director of the Federal Register approved the incorporation by reference of a certain publication listed in the AD as of May 7, 2008.

On July 17, 2006 (71 FR 33604, June 12, 2006), the Director of the Federal Register approved the incorporation by reference of Boeing Special Attention Service Bulletin 747-35-2114, dated December 19, 2002.

We must receive comments on this AD by June 23, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this AD, contact Boeing Commercial Airplanes, P.O. Box 3707, Seattle, Washington 98124-2207.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone 800-647-5527) is in the ADDRESSES section. Comments will be available in the AD docket shortly after receipt.

FOR FURTHER INFORMATION CONTACT: Robert Hettman, Aerospace Engineer, Cabin Safety and Environmental Systems Branch, ANM-150S, FAA, Seattle Aircraft Certification Office, 1601 Lind Avenue, SW., Renton, Washington 98057-3356; telephone (425) 917-6457; fax (425) 917-6590.

SUPPLEMENTARY INFORMATION:

Discussion

On May 31, 2006, we issued AD 2006-12-10, amendment 39-14635 (71 FR 33604, June 12, 2006), for certain Boeing Model 747-400 series airplanes (i.e., those identified in Boeing Special Attention Service Bulletin 747-35-2114, dated December 19, 2002). That AD requires inspecting the support bracket of the crew oxygen cylinder installation to determine the manufacturing date marked on the support, and performing corrective action if necessary. That AD resulted from a report indicating that certain oxygen cylinder supports may not have been properly heat-treated. We issued that AD to prevent failure of the oxygen cylinder support under the most critical flight load conditions, which could cause the oxygen cylinder to come loose and leak oxygen. Leakage of oxygen could result in oxygen being unavailable for the flightcrew or could result in a fire hazard in the vicinity of the leakage.

Actions Since Existing AD Was Issued

Since we issued AD 2006-12-10, Boeing issued Special Attention Service Bulletin 747-35-2114, Revision 1, dated June 7, 2007, to add airplanes to the effectivity of the service bulletin. With the exception of the added airplanes, the actions specified in Revision 1 are the same as those specified in Boeing Special Attention Service Bulletin 747-35-2114, dated December 19, 2002 (referenced as a source of service and applicability information in AD 2006-12-10).

FAA's Determination and Requirements of This AD

The unsafe condition described previously is likely to exist or develop on other airplanes of the same type design. For this reason, we are issuing this AD to revise AD 2006-12-10. This new AD retains the requirements of the existing AD. This AD also adds new airplanes to the applicability.

Costs of Compliance

No airplane added to the applicability of this AD is currently on the U.S. Register. However, if any affected airplane is imported and placed on the U.S. Register in the future, it will be subject to the per-airplane cost specified below.

There are about 83 airplanes of the affected design in the worldwide fleet. This AD affects about 15 airplanes of U.S. registry. The required inspection will take about 1 work hour per airplane, at an average labor rate of $80 per work hour. Based on these figures, the estimated cost of this AD for U.S. operators is $1,200, or $80 per airplane.

FAA's Determination and Requirements of This AD

No additional airplanes affected by this AD are on the U.S. Register. We are issuing this AD because the unsafe condition described previously is likely to exist or develop on other products of the(se) same type design(s) that could be registered in the United States in the future. This AD requires inspecting the support bracket of the crew oxygen cylinder installation to determine the manufacturing date marked on the support, and performing corrective action if necessary.

Since no additional airplanes that are U.S. registered are affected by this AD, notice and opportunity for public comment before issuing this AD are unnecessary.

Comments Invited

This AD is a final rule that involves requirements affecting flight safety, and we did not provide you with notice and an opportunity to provide your comments before it becomes effective. However, we invite you to send any written data, views, or arguments about this AD. Send your comments to an address listed under the ADDRESSES section. Include “Docket No. FAA-2008-0410; Directorate Identifier 2007-NM-362-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-14635 (71 FR 33604, June 12, 2006) and adding the following new airworthiness directive (AD):

2006-12-10 R1 Boeing: Amendment 39-15485. Docket No. FAA-2008-0410; Directorate Identifier 2007-NM-362-AD.

Effective Date

(a) This AD becomes effective May 7, 2008.

Affected ADs

(b) This AD revises AD 2006-12-10.

Applicability

(c) This AD applies to Boeing Model 747-400 series airplanes, certificated in any category, as identified in Boeing Special Attention Service Bulletin 747-35-2114, Revision 1, dated June 7, 2007.

Unsafe Condition

(d) This AD results from a report indicating that certain oxygen cylinder supports may not have been properly heat-treated. We are issuing this AD to prevent failure of the oxygen cylinder support under the most critical flight load conditions, which could cause the oxygen cylinder to come loose and leak oxygen. Leakage of oxygen could result in oxygen being unavailable for the flightcrew or could result in a fire hazard in the vicinity of the leakage.

Compliance

(e) You are responsible for having the actions required by this AD performed within the compliance times specified, unless the actions have already been done.

Inspection and Corrective Action

(f) At the compliance time specified in paragraph (f)(1) or (f)(2) of this AD as applicable, except as provided by paragraph (g) of this AD: Inspect the support bracket of the crew oxygen cylinder installation to determine the manufacturing date marked on the support, and do the corrective action as applicable, by doing all of the actions in accordance with the Accomplishment Instructions of Boeing Special Attention Service Bulletin 747-35-2114, dated December 19, 2002; or Revision 1, dated June 7, 2007. Corrective action, if applicable, must be done before further flight after the inspection. After the effective date of this AD only Revision 1 of the service bulletin may be used.

(1) For airplanes identified in Boeing Special Attention Service Bulletin 747-35-2114, dated December 19, 2002: Within 18 months after July 17, 2006 (the effective date of AD 2006-12-10).

(2) For airplanes not identified in Boeing Special Attention Service Bulletin 747-35-2114, dated December 19, 2002: Within 18 months after the effective date of this AD.

(g) If the configuration of the crew oxygen cylinder installation is changed from a one-cylinder to a two-cylinder configuration: Do the actions required by paragraph (f) of this AD before further flight after the change in configuration, or at the applicable time specified in paragraph (g)(1) or (g)(2), whichever is later.

(1) For airplanes identified in Boeing Special Attention Service Bulletin 747-35-2114, dated December 19, 2002: Within 18 months after July 17, 2006.

(2) For airplanes not identified in Boeing Special Attention Service Bulletin 747-35-2114, dated December 19, 2002: Within 18 months after the effective date of this AD.

Parts Installation

(h) At the time specified in paragraph (h)(1) or (h)(2) of this AD as applicable, no person may install an oxygen cylinder support bracket having part number 65B68258-2 and having a manufacturing date between 10/01/98 and 03/09/01 inclusive (meaning, a manufacturing date of 10/01/98 or later and 03/09/01 or earlier).

(1) For airplanes identified in Boeing Special Attention Service Bulletin 747-35-2114, dated December 19, 2002: As of July 17, 2006.

(2) For airplanes not identified in Boeing Special Attention Service Bulletin 747-35-2114, dated December 19, 2002: As of the effective date of this AD.

Alternative Methods of Compliance (AMOCs)

(i)(1) The Manager, Seattle Aircraft Certification Office (ACO), FAA, has the authority to approve AMOCs for this AD, if requested in accordance with the procedures found in 14 CFR 39.19.

(2) To request a different method of compliance or a different compliance time for this AD, follow the procedures in 14 CFR 39.19. Before using any approved AMOC on any airplane to which the AMOC applies, notify your appropriate principal inspector (PI) in the FAA Flight Standards District Office (FSDO), or lacking a PI, your local FSDO.

(3) AMOCs approved previously in accordance with AD 2006-12-10, are approved as AMOCs for the corresponding provisions of paragraph (f) and (g) of this AD.

Material Incorporated by Reference

(j) You must use Boeing Special Attention Service Bulletin 747-35-2114, dated December 19, 2002; or Boeing Special Attention Service Bulletin 747-35-2114, Revision 1, dated June 7, 2007; as applicable; to perform the actions that are required by this AD, unless the AD specifies otherwise.

(1) The Director of the Federal Register approved the incorporation by reference of Boeing Special Attention Service Bulletin 747-35-2114, Revision 1, dated June 7, 2007, in accordance with 5 U.S.C. 552(a) and 1 CFR part 51.

(2) On July 17, 2006 (71 FR 33604, June 12, 2006), the Director of the Federal Register approved the incorporation by reference of Boeing Special Attention Service Bulletin 747-35-2114, dated December 19, 2002.

(3) Contact Boeing Commercial Airplanes, P.O. Box 3707, Seattle, Washington 98124-2207, for a copy of this service information. You may review copies at the FAA, Transport Airplane Directorate, 1601 Lind Avenue, SW., Renton, Washington 98057-3356; or at the National Archives and Records Administration (NARA). For information on the availability of this material at NARA, call 202-741-6030, or go to: http://www.archives.gov/federal-register/cfr/ibr-locations.html.

Issued in Renton, Washington, on April 14, 2008.
Ali Bahrami,
Manager, Transport Airplane Directorate, Aircraft Certification Service.

[FR Doc. E8-8531 Filed 4-21-08; 8:45 am]

BILLING CODE 4910-13-P